DEPARTMENT OF ENERGY

Federal Energy Regulatory Commission

[Project No. 13237-003]

Notice of Application Tendered for Filing With the Commission, Accepted for Filing With the Commission, Soliciting Motions To Intervene and Protests, Ready for Environmental Analysis, Intent To Waive Solicitation of Additional Study Requests, Intent To Waive Scoping, Soliciting Comments, Terms and Conditions, Recommendations, and Prescriptions, and Establishing an Expedited Schedule for Processing; Whitman River Dam, Inc.

Take notice that the following hydroelectric application has been filed with the Commission and is available for public inspection.

a. Type of Application: Original Minor License.

b. Project No.: 13237-003.

c. Date Filed: August 29, 2011.

d. Applicant: Whitman River Dam, Inc.

e. Name of Project: Crocker Dam Hydro Project.

f. Location: On the Whitman River, in the Town of Westminster, Worcester County, Massachusetts. The project would not occupy lands of the United States.

g. Filed Pursuant to: 18 CFR 4.61 of the Commission's regulations.

h. Applicant Contact: Robert T. Francis, P.O. Box 145, 10 Tommy Francis Road, Westminster, MA 01473, (978) 874-1010, bfrancis@verizon.net.

i. FERC Contact: Jeff Browning, (202) 502-8677, or e-mail at Jeffrey.Browning@ferc.gov.

j. Deadline for Filing Motions to Intervene And Protests, Comments, Terms and Conditions, Recommendations, and Prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The Crocker Dam Hydro Project would consist of: (1) The existing 520-foot-long, 38.5-foot-high earthen embankment and masonry Crocker Pond dam equipped with a 120-foot-long arched spillway section topped with 26-inch-high wooden flashboards; (2) an existing 110 acre impoundment with a normal water surface elevation of 752.66 feet above mean sea level; (3) an existing 8-foot-wide, 12-foot-high floodgate located between the spillway and gate house; (4) an existing 3-foot-wide, 3-foot-high mud gate located at the spillway toe adjacent to the flood gate; (5) an existing gate house equipped with an existing 42-inch-diameter penstock; (6) a new 23-foot-long, 42-inch-penstock extension; (7) a new powerhouse containing one 145-kilowatt turbine generating unit; and (8) a new 480-volt (V), 40-foot-long buried transmission line from the powerhouse to an existing power pole connected to a new 480-V, 200-foot-long above-ground transmission line to the regional grid interconnection. The proposed project is estimated to generate an average of 887,450 kilowatt-hours annually.

m. Due to the project works already existing and the limited scope of proposed rehabilitation of the project site described above, the applicant's close coordination with Federal and state agencies during the preparation of the application, and completed studies during pre-filing consultation, we intend to waive scoping, shorten the notice filing period, and expedite the review process. Based on a review of the application, resource agency consultation letters, and comments filed to date, Commission staff intends to prepare a single environmental assessment (EA). Commission staff determined that the issues that need to be addressed in its EA have been adequately identified during the pre-filing period, which included a public meeting and site visit, and no new issues are likely to be identified through additional scoping. The EA will consider assessing the potential effects of project construction and operation on geology and soils, aquatic, terrestrial, threatened and endangered species, recreation and land use, aesthetic, and cultural and historic resources.

n. A copy of the application is available for review at the Commission in the Public Reference Room or may be viewed on the Commission's Web site at http://www.ferc.gov using the “eLibrary” link. Enter the docket number excluding the last three digits in the docket number field to access the document. For assistance, contact FERC Online Support at FERCONlineSupport@ferc.gov.

Register online at http://www.ferc.gov/docs-filing/esubscription.asp to be notified via e-mail of new filings and issuances related to this or other pending projects. For assistance, contact FERC Online Support.

o. Cooperating Agencies: We are asking Federal, state, and local agencies and Indian Tribes with jurisdiction and/or special expertise with respect to environmental issues to cooperate with us in the preparation of the environmental document. Agencies who would like to request cooperating status should follow the instructions for filing comments described in item p below.

Cooperating agencies should note the Commission's policy that agencies that cooperate in the preparation of the environmental document cannot also intervene. See 94 FERC ¶ 61,076 (2001).

p. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. Procedural Schedule: The application will be processed according to the following Hydro Licensing Schedule. Revisions to the schedule will be made as appropriate (e.g., if scoping is waived, the schedule would be shortened).

Milestone | Target date
Notice of the availability of the EA | February 2012.

Dated: September 12, 2011.
Kimberly D. Bose,
Secretary.

[FR Doc. 2011-23794 Filed 9-15-11; 8:45 am]

BILLING CODE 6717-01-P